DEPARTMENT OF COMMERCE

National Oceanic and Atmospheric Administration

[RTID 0648-XC022]

Marine Mammals and Endangered Species

AGENCY: National Marine Fisheries Service (NMFS), National Oceanic and Atmospheric Administration (NOAA), Commerce.

ACTION: Notice; issuance of permits, and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Sara Young (Permit Nos. 22187-03, 22260, and 26345), Shasta McClenahan, Ph.D., (Permit Nos. 25843, 26245, and 26285), Jennifer Skidmore (Permit No. 26269), and Courtney Smith, Ph.D., (Permit No. 26288); at (301) 427-8401.

SUPPLEMENTARY INFORMATION: Notices were published in the Federal Register on the dates listed below that requests for a permit or permit amendment had been submitted by the below-named applicants. To locate the Federal Register notice that announced our receipt of the application and a complete description of the activities, go to www.federalregister.gov and search on the permit number provided in Table 1 below.

Table 1—Issued Permits and Permit Amendments
Permit No. | RTID | Applicant | Previous Federal Register notice | Issuance date
22187-03 | 0648-XB778 | Heather E. Liwanag, Ph.D., 1 Grand Avenue, San Luis Obispo, CA 93407 | 87 FR 6511; February 4, 2022 | April 1, 2022.
22260 | 0648-XB731 | Allyson Hindle, Ph.D., University of Nevada Las Vegas, 4505 S Maryland Parkway, Las Vegas, NV 89154 | 87 FR 3976; January 26, 2022 | April 29, 2022.
25843 | 0648-XB837 | Peggy Stap, Marine Life Studies, 6 Carlton Drive, Del Rey Oaks, CA 93940 | 87 FR 10337; February 24, 2022 | April 21, 2022.
26245 | 0648-XB780 | Zoological Society of San Diego, d/b/a San Diego Zoo Wildlife Alliance, P.O. Box 120551, San Diego, CA 92112 (Responsible Party: Paul Baribault) | 87 FR 7159; February 8, 2022 | April 4, 2022.
26269 | 0648-XB824 | Changqun Zhang, Texas A&M University at Galveston, 200 Seawolf Parkway, Galveston, TX 77553 | 87 FR 10337; February 24, 2022 | April 11, 2022.
26285 | 0648-XB740 | The Whale Museum, P.O. Box 924, Friday Harbor, WA 98250 (Responsible Party: Jenny Atkinson) | 87 FR 4226; January 27, 2022 | April 21, 2022.
26288 | 0648-XB864 | Deborah Giles, Ph.D., Wild Orca, 6523 California Avenue SW #172 Seattle, WA 98136 | 87 FR 13270; March 9, 2022 | April 29, 2022.
26345 | 0648-XB786 | Sealight Pictures, 51A Seaview Street, Balgowlah, Sydney NSW 2093 Australia (Responsible Party: Adam Geiger) | 87 FR 7155; February 8, 2022 | April 21, 2022.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: May 9, 2022.
Amy Sloan,
Acting Chief, Permits and Conservation Division, Office of Protected Resources, National Marine Fisheries Service.

[FR Doc. 2022-10210 Filed 5-11-22; 8:45 am]

BILLING CODE 3510-22-P